MEDICARE PAYMENT ADVISORY COMMISSION

Commission Meeting

AGENCY: Medicare Payment Advisory Commission.

ACTION: Notice of meeting.

SUMMARY: The Commission will hold its next public meeting on Wednesday, January 15, 2003, and Thursday, January 16, 2003, at the Ronald Reagan Building, International Trade Center, 1300 Pennsylvania Avenue, NW., Washington, DC. The meeting is tentatively scheduled to begin at 9:30 a.m. on January 15, and at 9 a.m. on January 16.

Topics for discussion include: Payment adequacy and updating Medicare payments; paying for new technologies; PPS for inpatient psychiatric facilities; expanded transfer policy for hospital inpatient services; indirect medical education payments above the costs of teaching; MedPAC's previous recommendations on payments to rural hospitals; alternatives to administered pricing; methods used by private payers to pay for physician-administered drugs, and developing incentives to improve quality of care in Medicare.

Agendas will be e-mailed on January 7, 2003. The final agenda will be available on the Commission's Web site (www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller,
Executive Director.

[FR Doc. 03-33 Filed 1-2-03; 8:45 am]

BILLING CODE 6820-BW-M